DEPARTMENT OF HEALTH AND HUMAN SERVICES

Administration for Children and Families

[OMB #0970-0085]

Submission for OMB Review; Provision of Services in Intergovernmental IV-D; Federally Approved Forms

AGENCY: Office of Child Support Enforcement; Administration for Children and Families; HHS.

ACTION: Request for public comment.

SUMMARY: This is a revision to an existing data collection which expires December 31, 2019. This data collection consists of 13 intergovernmental forms used by States and other entities to process intergovernmental child support cases. This request is for minor revisions to the approved forms.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following: Office of Management and Budget, Paperwork Reduction Project, Email: OIRA_SUBMISSION@OMB.EOP.GOV, Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION:

Description: Public Law 104-193, the Personal Responsibility and Work Opportunity Reconciliation Act of 1996, amended 42 U.S.C. 666 to require State Child Support Enforcement (CSE) agencies to enact the Uniform Interstate Family Support Act (UIFSA) into State law by January 1, 1998. Section 311(b) of UIFSA requires the States to use forms mandated by Federal law. 45 CFR 303.7(a)(4) also requires child support programs to use federally-approved forms in intergovernmental IV-D cases unless a country has provided alternative forms.

Proposed changes to the forms include updates for clarification and consistency to the instructions on all of the forms. Additional changes include:

• On the Child Support Enforcement Transmittal #3—Request for Assistance/Discovery, the addition of a new case processing action to facilitate payment processing for a direct Income Withholding Order, and the revision of the payment forwarding action.

• On the Declaration in Support of Establishing Parentage, the revision of the declaration signature section to make it consistent with the General Testimony and more flexible for cases involved children in foster care.

Respondents: State agencies administering a child support program under title IV-D of the Social Security Act.

Annual Burden Estimates
Instrument | Number of respondents | Number of responses per respondent | Average burden hours per response | Total burden hours
Transmittal #1—Initial Request | 54 | 18,246 | 0.17 | 167,498
Transmittal #1—Initial Request Acknowledgement * | 54 | 18,246 | 0.05 | 49,264
Transmittal #2—Subsequent Action | 54 | 13,685 | 0.08 | 59,119
Transmittal #3—Request for Assistance/Discovery | 54 | 2,737 | 0.08 | 11,824
Uniform Support Petition | 54 | 7,298 | 0.05 | 19,705
General Testimony | 54 | 7,298 | 0.33 | 130,050
Declaration in Support of Establishing Parentage | 54 | 2,737 | 0.15 | 22,170
Child Support Locate Request | 54 | 182 | 0.05 | 491
Notice of Determination of Controlling Order | 54 | 2 | 0.25 | 27
Letter of Transmittal Requesting Registration | 54 | 10,948 | 0.08 | 47,295
Personal Information Form For UIFSA § 311 * | 54 | 7,298 | 0.05 | 19,705
Child Support Agency Confidential Information Form * | 54 | 21,895 | 0.05 | 59,117
Request for Change of Support Payment Location Pursuant to UIFSA 319(b) * | 54 | 91 | 0.05 | 246

Estimated Total Annual Burden Hours: 586,511.

Authority: 45 CFR 303.7.

Mary B. Jones,
ACF/OPRE Certifying Officer.

[FR Doc. 2019-23300 Filed 10-24-19; 8:45 am]

BILLING CODE 4184-41-P